DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of sixty-five newly-designated individuals and forty-five newly designated entities whose property and interests in property are blocked pursuant to Executive Order 12978 of October 21, 1995, “Blocking Assets and Prohibiting Transactions with Significant Narcotics Traffickers.”

DATES: The designation by the Secretary of the Treasury of the sixty-five individuals and forty-five entities identified in this notice pursuant to Executive Order 12978 is effective on March 28, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On March 28, 2007, the Secretary of the Treasury, in consultation with the Attorney General and Secretary of State, as well as the Secretary of Homeland Security, designated sixty-five individuals and forty-five entities whose property and interests in property are blocked pursuant to the Order.

The list of designees is as follows:

Individuals

1. OCHOA VASCO, Fabio Enrique (a.k.a. MARTINEZ PEREZ, Juan Carlos; a.k.a. OCHOA VASCO, Carlos Mario; a.k.a. “CARLOS MARIO”; a.k.a. “KIKO”; a.k.a. “KIKO EL CHIQUITO”); Medellin, Antioquia, Colombia; Guadalajara, Jalisco, Mexico; DOB 22 Nov 1960; POB Medellin, Colombia; Cedula Number 79281039 (Colombia) (individual) [SDNT]

2. ALVAREZ DEL RIO, Fredy de Jesus; POB Colombia; Cedula No. 98557177(Colombia) (individual) [SDNT]

3. BARAHONA CORDOBEZ, Jaime (a.k.a. BARONA CORDOBES, Jaime; a.k.a. BARONA CORDOBEZ, Jaime), Km. 16.5 El Salvador 169, Andalucia, Guatemala; Avenida Reforma 8-33 Zona 10, Guatemala City, Guatemala; 10 Calle 5-60 Zona 9, Guatemala City, Guatemala; c/o OVERSEAS TRADING COMPANY S.A., Guatemala City, Guatemala; DOB 1 Oct 1960; POB Guatemala; NIT # 953243-9 (Guatemala); Passport 16660729 (Guatemala) (individual) [SDNT]

4. BODDEN GALE, Elvert Dowie (a.k.a. “TIO BODDEN”), Roatan, Honduras; DOB 24 Apr 1956; POB Honduras; Passport A046090 (Honduras) (individual) [SDNT]

5. BRISENO MAR, Gloria Elisa (a.k.a. BRISENO, Lizzy; a.k.a. OCHOA, Gloria Elisa), c/o INVERSIONES Y REPRESENTACIONES S.A., Medellin, Colombia; c/o MC OVERSEAS TRADING COMPANY S.A. DE C.V., Guadalajara, Jalisco, Mexico; c/o LIZZY MUNDO INTERIOR, Guadalajara, Jalisco, Mexico; DOB 16 Aug 1965; POB Durango, Mexico; C.U.R.P. BIMG650816MDGRRL05 (Mexico); Passport 99140015920 (Mexico) (individual) [SDNT]

6. CADENAS VIRAMONTES, Porfirio Miguel, Calle Nelson 421-B, Guadalajara, Jalisco, Mexico; Calle Justo Sierra 1963, Colonia Ladron de Guevara, Guadalajara, Jalisco, Mexico; Calle Mar del Sur No 2075 Int. 1, Colonia Fraccionamiento Country Club, Guadalajara, Jalisco, Mexico; c/o MC OVERSEAS TRADING COMPANY S.A. DE C.V., Guadalajara, Mexico; c/o OVERSEAS TRADING COMPANY S.A., Guatemala City, Guatemala; c/o INMOBILIUM INVESTMENT CORP., Panama City, Panama; DOB 12 Jun 1959; POB Guadalajara, Jalisco, Mexico; C.U.R.P CAUP590612HJCDRR09 (Mexico); R.F.C. # CAVP-590612-AD1 (Mexico); NIT # 2665307-9 (Guatemala); Passport 97140096573 (Mexico) (individual) [SDNT]

7. CAICEDO ROJAS, Jorge Ernesto, Calle 82 No 11-37 Ofc. 504, Bogota, Colombia; c/o PROMOCIONES E INVERSIONES LAS PALMAS S.A., Bogota, Colombia; c/o HOTEL LA CASCADA S.A., Girardot, Colombia; DOB 21 Oct 1955; POB Bogota, Colombia; Cedula No. 3227987 (Colombia) (individual) [SDNT]

8. CALVO LOMBANA, Gabriel Andres, c/o ORIMAR LTDA., Bogota, Colombia; c/o AQUAMARINA ISLAND INTERNATIONAL CORPORATION, Panama City, Panama; c/o FISHING ENTERPRISE HOLDING INC., Panama City, Panama; DOB 20 Aug 1935; POB Bogota, Colombia; Cedula No. 2859105 (Colombia) (individual) [SDNT]

9. CASTANEDA GIRALDO, Maria Teresa (a.k.a. CASTANEDA DE PABON, Maria Teresa), c/o INVERSIONES MPS S.A., Bogota, Colombia; c/o PROYECTOS Y SOLUCIONES INMOBILIARIA LTDA., Bogota, Colombia; c/o GERENCIA DE PROYECTOS Y SOLUCIONES LTDA., Bogota, Colombia; DOB 3 Aug 1957; POB Colombia; Cedula No. 35455961 (Colombia) (individual) [SDNT]

10. CASTELLANOS SANCHEZ, Federico Ernesto, Calle Tauro No 4090, Colonia Juan Manuel Vallarte, Zapopan, Jalisco, Mexico; c/o MC OVERSEAS TRADING COMPANY S.A. DE C.V., Guadalajara, Mexico; DOB 11 Jan 1947; POB Tototlan, Jalisco, Mexico (individual) [SDNT]

11. CASTRILLON VASCO, Jhon Jairo, c/o HOTEL LA CASCADA S.A., Girardot, Colombia; c/o INVERSIONES Y REPRESENTACIONES S.A., Medellín, Colombia; c/o FLORIDA SOCCER CLUB S.A., Medellín, Colombia; DOB 30 Mar 1960; POB Medellín, Colombia; Cedula No. 71603587 (Colombia) (individual) [SDNT]

12. CASTRO GARZON, Ricardo (a.k.a. LINEROS GARZON, Rodolfo; a.k.a. “CAYO”), c/o CASTRO CURE Y CIA. S.C.S., Barranquilla, Colombia; c/o CURE SABAGH Y CIA. S.C.S., Barranquilla, Colombia; c/o FUDIA LTDA., Barranquilla, Colombia; c/o CABLES NACIONALES S.A., Barranquilla, Colombia; c/o INVERSIONES AGROPECUARIA ARIZONA LTDA., Barranquilla, Colombia; DOB 13 Dec 1960; POB Barranquilla, Colombia; Cedula No. 8715520 (Colombia) (individual) [SDNT]

13. CASTRO GARZON, Victor Hugo (a.k.a. “CABEZON”), Guadalajara, Jalisco, Mexico; DOB 10 May 1965; POB Barranquilla, Colombia; Cedula No. 72137257 (Colombia) (individual) [SDNT]

14. CASTRO PAEZ, Gerardo, c/o CABLES NACIONALES CANAL S.A., Barranquilla, Colombia; c/o ORIMAR LTDA., Bogota, Colombia; DOB 16 Mar 1974; POB Barranquilla, Colombia; Cedula No. 72196638 (Colombia) (individual) [SDNT]

15. CASTRO PAEZ, Jhon Paul, c/o CABLES NACIONALES CANAL S.A., Barranquilla, Colombia; POB Colombia; Cedula No. 72223501 (Colombia) (individual) [SDNT]

16. CHOW RIOS, Harding Elvis; DOB 2 Apr 1962; POB San Andres, Colombia; Cedula No. 15243752 (Colombia) (individual) [SDNT]

17. CURE SABAGH, Diana Maria, c/o CASTRO CURE Y CIA. S.C.S., Barranquilla, Colombia; c/o CURE SABAGH Y CIA. S.C.S., Barranquilla, Colombia; c/o FUDIA LTDA., Barranquilla, Colombia; c/o CABLES NACIONALES CANAL S.A., Barranquilla, Colombia; DOB 24 Oct 1967; POB Barranquilla, Colombia; Cedula No. 22443685 (Colombia) (individual) [SDNT]

18. DALE DE MOR, Maria Elena, c/o MOR ALFOMBRAS ALFOFIQUE S.A., Bogota, Colombia; c/o MAYOR COMERCIALIZADORA LTDA., Bogota, Colombia; c/o KARIAN LIMITADA., Bogota, Colombia; DOB 11 May 1945; POB Bogota, Colombia; Cedula No. 41326059 (Colombia); Passport AG035322 (Colombia) (individual) [SDNT]

19. DE MARTINI TAMAYO, Sergio Rene (a.k.a. “CANOSO”); DOB 14 Sep 1962; POB Medellín, Colombia; Cedula No. 71622812 (Colombia) (individual) [SDNT]

20. DURAN ABDELNUR, Jorge Eduardo, c/o DURATEX S.A., Bogota, Colombia; c/o COMERCIALIZADORA MORDUR S.A., Quito, Ecuador; DOB 21 Nov 1955; POB Colombia; Cedula No. 19309441 (Colombia) (individual) [SDNT]

21. FANDINO ARBELAEZ, Francisco Jose, c/o DURATEX S.A., Bogota, Colombia; c/o KARIAN LIMITADA, Bogota, Colombia; DOB 6 Jul 1940; POB Colombia; Cedula No. 17032032 (Colombia); Passport AF325976 (Colombia) (individual) [SDNT]

22. FERNANDEZ CASTRO, Fernando Alberto (a.k.a. “FERCHO”), c/o GIMNASIO BODY AND HEALTH, Barranquilla, Colombia; DOB 12 May 1966; POB Colombia; Cedula No. 72137518 (Colombia) (individual) [SDNT]

23. GALLEGO VALENCIA, John Jairo (a.k.a. “DON JOTA”; a.k.a. “FREDERICO”), c/o LAVADERO EL CASTILLO, Medellín, Colombia; DOB 30 Jul 1950; POB Medellín, Colombia; Cedula No. 70126377 (Colombia); Passport AC312064 (Colombia) (individual) [SDNT]

24. GARCIA BUITRAGO, Miyer Alberto (a.k.a. “CHIQUI”); DOB 13 Jul 1970; POB Manzanares, Caldas, Colombia; Cedula No. 10287969 (Colombia); Passport AH132212 (Colombia) (individual) [SDNT]

25. GARCIA RODRIGUEZ, Martha, c/o TRANSPORTES MICHAEL LTDA., Barranquilla, Colombia; c/o COOPERATIVA DE SERVICIO DE TRANSPORTE DE CARGA DE COLOMBIA LTDA., Barranquilla, Colombia; c/o CENTRO DE BELLEZA SHARY VERGARA, Barranquilla, Colombia; POB Colombia; Cedula No. 32761805 (Colombia) (individual) [SDNT]

26. GAVIRIA DE MOR, Liliana, c/o DURATEX S.A., Bogota, Colombia; c/o MOR ALFOMBRAS ALFOFIQUE S.A., Bogota, Colombia; c/o MOR GAVIRIA S.C.S., Bogota, Colombia; c/o GAVIRIA MOR Y CIA. LTDA., Girardot, Colombia; c/o CONSTRUCTORA AMERICA S.A., Bogota, Colombia; DOB 16 Mar 1965; POB Bogota, Colombia; Cedula No. 20621292 (Colombia); Passport AG443233 (Colombia) (individual) [SDNT]

27. GAVIRIA MEJIA, Luis Fernando, Calle 114 No 0-45 Torre 3 Apt. 303, Bogota, Colombia; c/o DURATEX S.A., Bogota, Colombia; DOB 11 Mar 1947; POB Bogota, Colombia; Cedula No. 17163914 (Colombia); Passport AJ241295 (Colombia) (individual) [SDNT]

28. GAVIRIA RUEDA, Gloria Ines, c/o COMERCIALIZADORA MOR GAVIRIA S.A., Quito, Ecuador; c/o INTERNACIONAL DE PROYECTOS INMOBILIARIOS S.A., Quito, Ecuador; POB Colombia; Cedula No. 1719011601 (Ecuador); alt. Cedula No. 41576358 (Colombia); RUC # 1233779 (Ecuador) (individual) [SDNT]

29. GIL GARZON, Marco Antonio, c/o CONSTRUCTORA AMERICA S.A., Bogota, Colombia; DOB 25 May 1947; POB Toca, Boyaca, Colombia; Cedula No. 17176949 (Colombia) (individual) [SDNT]

30. GIL GUIO, Alexandra, c/o DURATEX S.A., Bogota, Colombia; c/o PROMOCIONES E INVERSIONES LAS PALMAS S.A., Bogota, Colombia; c/o CONSTRUCTORA IRAKA S.A., Bogota, Colombia; c/o C.I. OTILIA FLOWERS S.A., Cajica, Cundinamarca, Colombia; c/o CONSTRUCTORA AMERICA S.A., Bogota, Colombia; DOB 11 Oct 1973; POB Colombia; Cedula No. 52145376 (Colombia) (individual) [SDNT]

31. GONZALEZ BETANCUR, Angel Horacio, c/o FISHING ENTERPRISE HOLDING INC., Panama City, Panama; c/o AQUAMARINA ISLAND INTERNATIONAL CORPORATION, Panama City, Panama; DOB 3 Feb 1966; POB Colombia; Cedula No. 6465085 (Colombia) (individual) [SDNT]

32. HERNANDEZ ORTEGA, Cesar Alejandro, c/o LIZZY MUNDO INTERIOR, Guadalajara, Mexico; DOB 28 Oct 1975; POB Guadalajara, Jalisco, Mexico; C.U.R.P. HEOC751028HJCRRS09 (Mexico); Passport 140022479 (Mexico) (individual) [SDNT]

33. HODWALKER MARTINEZ, Martin David (a.k.a. “TILO”), c/o VERANILLO DIVE CENTER LTDA., Barranquilla, Colombia; c/o MARTIN HODWALKER M. Y CIA. S. EN C., Barranquilla, Colombia; c/o YAMAHA VERANILLO DISTRIBUIDORES, Barranquilla, Colombia; c/o DESARROLLO GEMMA CORPORATION, Panama City, Panama; DOB 26 Dec 1968; POB Colombia; Cedula No. 8534760 (Colombia); Passport AF465508 Colombia (individual) [SDNT]

34. HOOKER TAYLOR, Javier Arnulfo (a.k.a. HOOKER POMARE, Javier), c/o COOPERATIVA DE SERVICIO DE TRANSPORTE DE CARGA DE COLOMBIA LTDA., Barranquilla, Colombia; c/o ROCK FISH IMPORT EXPORT E.U., San Andres, Colombia; DOB 19 Feb 1971; POB San Andres, Colombia; Cedula No. 18001893 (Colombia) (individual) [SDNT]

35. HYDE, Clive Norman (a.k.a. HYDE SR., Clive Norman; a.k.a. “MR. HYDE”); DOB 8 Apr 1956; POB Belize (individual) [SDNT]

36. INDABURU LUENGAS, Pedro Enrique, c/o COMERCIALIZADORA MOR GAVIRIA S.A., Quito, Ecuador; c/o COMERCIALIZADORA MORDUR S.A., Quito, Ecuador; c/o INTERNACIONAL DE PROYECTOS INMOBILIARIOS S.A., Quito, Ecuador; DOB 29 Jun 1948; POB Bogota, Colombia; Cedula No. 1719011619 (Ecuador); alt. Cedula No. 19074171 (Colombia); RUC # 171901161-9 (Ecuador) (individual) [SDNT]

37. LEAL LOPEZ, Janey Farides, c/o MARTIN HODWALKER M. Y CIA. S. EN C., Barranquilla, Colombia; c/o VERANILLO DIVE CENTER LTDA., Barranquilla, Colombia; DOB 6 Nov 1972; POB Colombia; Cedula No. 32779104 (Colombia); Passport AF665724 (Colombia) (individual) [SDNT]

38. LOGAN MOREY, Elvis Angus (a.k.a. “BURTON BURGESS”); DOB 28 Jul 1963; POB Toledo District, Belize; Passport P0017003 (Belize); SSN 561-77-9011 (United States) (individual) [SDNT]

39. LOZANO OSPINA, Max Abilio, c/o DURATEX S.A., Bogota, Colombia; c/o PROMOCIONES E INVERSIONES LAS PALMAS S.A., Bogota, Colombia; c/o C.I. OTILIA FLOWERS S.A., Cajica, Cundinamarca, Colombia; c/o CONSTRUCTORA AMERICA S.A., Bogota, Colombia; DOB 23 May 1971; POB Colombia; Cedula No. 79248772 (Colombia) (individual) [SDNT]

40. MALDONADO ESCOBAR, Fernando, c/o MOR GAVIRIA Y CIA. S.C.S., Bogota, Colombia; c/o PROMOCIONES E INVERSIONES LAS PALMAS S.A., Bogota, Colombia; c/o AUDITORES ESPECIALIZADOS LTDA., Bogota, Colombia; c/o GAVIRIA MOR Y CIA. LTDA., Girardot, Colombia; c/o AQUAMARINA ISLAND INTERNATIONAL CORPORATION, Panama City, Panama; DOB 16 May 1961; POB Bogota, Colombia; Cedula No. 19445721 (Colombia); Passport AH330349 (Colombia) (individual) [SDNT]

41. MALDONADO ESCOBAR, Mauricio, c/o MAYOR COMERCIALIZADORA LTDA., Bogota, Colombia; c/o MOR GAVIRIA Y CIA. S.C.S., Bogota, Colombia; c/o AUDITORES ESPECIALIZADOS LTDA., Bogota, Colombia; DOB 22 Oct 1962; POB Colombia; Cedula No. 79266443 (Colombia) (individual) [SDNT]

42. MAR SEM, Maria Gloria, c/o MC OVERSEAS TRADING COMPANY S.A. DE C.V., Guadalajara, Jalisco, Mexico; DOB 19 Aug 1944; POB Mexico; Passport 97140093454 (Mexico) (individual) [SDNT]

43. MARKS, Martin Gregory (a.k.a. GORDON, Howard A.); DOB 30 Oct 1958; POB Jamaica; Passport 217720 (Jamaica) (individual) [SDNT]

44. MOLINA MOLINA, Jesus Dagoberto, c/o TRANSPORTES MICHAEL LTDA., Barranquilla, Colombia; c/o COOPERATIVA DE SERVICIO DE TRANSPORTE DE CARGA MULTIMODAL, Barranquilla, Colombia; POB Colombia; Cedula No. 8233532 (Colombia) (individual) [SDNT]

45. MOR DALE, Jaime Enrique, c/o MOR ALFOMBRAS ALFOFIQUE S.A., Bogota, Colombia; c/o MAYOR COMERCIALIZADORA LTDA., Bogota, Colombia; c/o KARIAN LIMITADA, Bogota, Colombia; DOB 22 Feb 1971; POB Bogota, Colombia; Cedula No. 80420773 (Colombia); Passport AG035370 (Colombia) (individual) [SDNT]

46. MOR DALE, Jorge Dib, c/o MOR ALFOMBRAS ALFOFIQUE S.A., Bogota, Colombia; c/o MAYOR COMERCIALIZADORA LTDA., Bogota, Colombia; c/o KARIAN LIMITADA, Bogota, Colombia; DOB 20 Mar 1963; POB Bogota, Colombia; Cedula No. 79264955 (Colombia); Passport A1758932 (Colombia) (individual) [SDNT]

47. MOR DALE, Ricardo Alberto, c/o MOR ALFOMBRAS ALFOFIQUE S.A., Bogota, Colombia; c/o MAYOR COMERCIALIZADORA LTDA., Bogota, Colombia; c/o KARIAN LIMITADA, Bogota, Colombia; DOB 10 Jun 1964; POB Bogota, Colombia; Cedula No. 79301217 (Colombia) (individual) [SDNT]

48. MOR GAVIRIA, Carolina, c/o DURATEX S.A., Bogota, Colombia; c/o MOR GAVIRIA S.C.S., Bogota, Colombia; c/o SUPER BOYS GAMES LTDA., Bogota, Colombia; DOB 17 Aug 1985; POB Colombia; Cedula No. 8715520 (Colombia) (individual) [SDNT]

49. MOR GAVIRIA, Jaime, c/o DURATEX S.A., Bogota, Colombia; c/o MOR ALFOMBRAS ALFOFIQUE S.A., Bogota, Colombia; c/o PROMOCIONES E INVERSIONES LAS PALMAS S.A., Bogota, Colombia; c/o SUPER BOYS GAMES LTDA., Bogota, Colombia; c/o GAVIRIA MOR Y CIA. LTDA., Girardot, Colombia; DOB 27 Sep 1980; POB Colombia; Cedula No. 92700929 (Colombia); Passport AG443304 (Colombia) (individual) [SDNT]

50. MOR GAVIRIA, Maria Liliana (a.k.a. SVIEDRYS, Maria Liliana), Washington, D.C.; c/o DURATEX S.A., Bogota, Colombia; c/o MOR ALFOMBRAS ALFOFIQUE S.A., Bogota, Colombia; c/o MOR GAVIRIA S.C.S., Bogota, Colombia; c/o SUPER BOYS GAMES LTDA., Bogota, Colombia; c/o GAVIRIA MOR Y CIA. LTDA., Girardot, Colombia; DOB 21 Feb 1979; POB Bogota, Colombia; Cedula No. 35195932 (Colombia); Passport AG801641 (Colombia); SSN 579-33-4498 (United States) (individual) [SDNT]

51. MOR NASSAR, Jorge, c/o MOR ALFOMBRAS ALFOFIQUE S.A., Bogota, Colombia; c/o MAYOR COMERCIALIZADORA LTDA., Bogota, Colombia; DOB 10 Oct 1939; POB Ubate, Cundinamarca, Colombia; Cedula No. 310935 (Colombia); Passport AG035369 (Colombia) (individual) [SDNT]

52. MOR SAAB, Jaime Dib (a.k.a. MOR, Jaime Div; a.k.a. “JAIME MOORE”), c/o DURATEX S.A., Bogota, Colombia; c/o MOR ALFOMBRAS ALFOFIQUE S.A., Bogota, Colombia; c/o MOR GAVIRIA Y CIA. S.C.S., Bogota, Colombia; c/o INVERSIONES MPS S.A., Bogota, Colombia; c/o MAYOR COMERCIALIZADORA LTDA., Bogota, Colombia; c/o PROYECTOS Y SOLUCIONES S.A., Bogota, Colombia; c/o GERENCIA DE PROYECTOS Y SOLUCIONES LTDA., Bogota, Colombia; c/o PROMOCIONES E INVERSIONES LAS PALMAS S.A., Bogota, Colombia; c/o ACUICOLA SANTA CATALINA S.A., Bogota, Colombia; c/o SUPER BOYS GAMES LTDA., Bogota, Colombia; c/o KARIAN LTDA., Bogota, Colombia; c/o GAVIRIA MOR Y CIA. LTDA., Girardot, Colombia; c/o CONSTRUCTORA IRAKA S.A., Bogota, Colombia; c/o CONSTRUCTORA AMERICA S.A., Bogota, Colombia; c/o COMERCIALIZADORA MOR GAVIRIA S.A., Quito, Ecuador; c/o COMERCIALIZADORA MORDUR S.A., Quito, Ecuador; c/o INTERNACIONAL DE PROYECTOS INMOBILIARIOS IPI S.A., Quito, Ecuador; DOB 29 Apr 1955; POB Girardot, Cundinamarca, Colombia; Cedula No. 19222380 (Colombia); SSN 591-98-9689 (United States); (individual) [SDNT]

53. MOR SAAB, Soraya, c/o DURATEX S.A., Bogota, Colombia; c/o MOR GAVIRIA S.C.S., Bogota, Colombia; c/o PROYECTOS Y SOLUCIONES S.A., Bogota, Colombia; c/o CONSTRUCTORA IRAKA S.A., Bogota, Colombia; c/o ACUICOLA SANTA CATALINA S.A., Bogota, Colombia; c/o PROMOCIONES E INVERSIONES LAS PALMAS S.A., Bogota, Colombia; DOB 10 May 1959; POB Girardot, Cundinamarca, Colombia; Cedula No. 35461535 (Colombia) (individual) [SDNT]

54. OLIVEROS GUZMAN, Henry, c/o INVERSIONES MPS S.A., Bogota, Colombia; c/o MAYOR COMERCIALIZADORA LTDA., Bogota, Colombia; c/o MOR ALFOMBRAS ALFOFIQUE S.A., Bogota, Colombia; c/o GERENCIA DE PROYECTOS Y SOLUCIONES LTDA., Bogota, Colombia; c/o HOTEL LA CASCADA S.A., Girardot, Colombia; POB Colombia; Cedula No. 79484051 (Colombia) (individual) [SDNT]

55. PABON ALVARADO, Gustavo Alberto, c/o INVERSIONE MPS S.A., Bogota, Colombia; c/o PROYECTOS Y SOLUCIONES S.A., Bogota, Colombia; c/o PROYECTOS Y SOLUCIONES INMOBILIARIA LTDA., Bogota, Colombia; c/o GERENCIA DE PROYECTOS Y SOLUCIONES LTDA., Bogota, Colombia; c/o ACUICOLA SANTA CATALINA S.A., Bogota, Colombia; c/o HOTEL LA CASCADA S.A., Girardot, Colombia; c/o FLORIDA SOCCER CLUB S.A., Medelln, Colombia; DOB 6 May 1955; POB Bogota, Colombia; Cedula No. 79146243 (Colombia) (individual) [SDNT]

56. PACHECO MEJIA, Luis, c/o FLORIDA SOCCER CLUB S.A., Medellín, Colombia; Calle Paseo de Los Virreyes No. 4022, Colonia San Wenceslao, Zapopan, Jalisco, Mexico; DOB 18 Jun 1951; POB Guadalajara, Jalisco, Mexico; Passport 03140120376 (Mexico); RFC PAML-510618-ED7 (Mexico) (individual) [SDNT]

57. PALACIO ADARVE, John Ricardo; DOB 11 Mar 1969; POB Itagui, Antioquia, Colombia; Cedula No. 70697538 (Colombia) (individual) [SDNT]

58. RINCONES MENDOZA, Henry Juvenal; DOB 25 Sep 1976; POB Colombia; Cedula No. 79863543 (Colombia) (individual) [SDNT]

59. SABAGH DE CURE, Maria Dunia, c/o CURE SABAGH Y CIA. S.C.S., Barranquilla, Colombia; c/o FUDIA LTDA., Barranquilla, Colombia; DOB 02 Jan 1947; POB Barranquilla, Colombia; Cedula No. 33278803 (Colombia); Passport AE330188 (Colombia) (individual) [SDNT]

60. TRUJILLO MOLINA, Maria Helena (a.k.a. TRUJILLO MOLINA, Maria Elena), c/o HOTEL LA CASCADA S.A., Girardot, Colombia; c/o INVERSIONES Y REPRESENTACIONES S.A., Medelín, Colombia; POB Colombia; Cedula No. 42875026 (Colombia) (individual) [SDNT]

61. VALENCIA MARIN, Libardo Elias; DOB 23 Mar 1946; POB Colombia; Cedula No. 8225623 (Colombia) (individual) [SDNT]

62. VARELA SERNA, Carlos Heneris (a.k.a. “COLITAS”), c/o TRANSPORTES MICHAEL LTDA., Barranquilla, Colombia; c/o COOPERATIVA DE SERVICIO DE TRANSPORTE DE CARGA DE COLOMBIA LTDA., Barranquilla, Colombia; c/o CENTRO DE BELLEZA SHARY VERGARA, Barranquilla, Colombia; DOB 11 Jan 1956; POB Cali, Colombia; Cedula No. 16632290 (Colombia) (individual) [SDNT]

63. VASQUEZ DIAZ, Augusto de Jesus, c/o FLORIDA SOCCER CLUB S.A., Medelíon, Colombia; Cedula No. 3333064 (Colombia) (individual) [SDNT]

64. WORRELL, Gareth Bruce (a.k.a. WORRELL MURRAY, Gareth Bruce; a.k.a. WORRELL MURRAY, Garrett; a.k.a. “GARETH MOREY”); DOB 19 Jun 1971; alt. DOB 19 Jan 1971; POB Belize; Passport 0159817 (Belize) (individual) [SDNT]

65. YEPES VELEZ, Silvio (a.k.a. YEPEZ VELEZ, Silvio), Carrera 30 No 77-26, Bogota, Colombia; c/o HOTEL LA CASCADA S.A., Girardot, Colombia; DOB 9 Nov 1948; POB Manizales, Caldas, Colombia; Cedula No. 19065009 (Colombia); NIT # 19065009-4 (Colombia) (individual) [SDNT]

Entities

1. ACUICOLA SANTA CATALINA S.A., Avenida 13 No. 100-12 Ofc. 302, Bogota, Colombia; NIT # 830010809-5 (Colombia) [SDNT]

2. AQUAMARINA ISLAND INTERNATIONAL CORPORATION, Avenida Cuba Calle 38, Edificio Los Cristales Piso 3, Panama City, Panama; Calle 93 No. 14-20 Ofc. 611, Bogota, Colombia; Avenida del Pastelillo 24-46, Edificio Fadia—Manga, Cartagena, Colombia; RUC # 2120851397079 (Panama) [SDNT]

3. AUDITORES ESPECIALIZADOS LTDA., Calle 93 No. 14-20 Ofc. 611, Bogota, Colombia; NIT # 830041980-1 (Colombia) [SDNT]

4. C.I. OTILIA FLOWERS S.A., Carrera 11 No. 94-02 Ofc. 405, Bogota, Colombia; Vereda Las Manas, Finca La Estancia, Cajica, Cundinamarca, Colombia; NIT # 800207350-5 (Colombia) [SDNT]

5. CABLES NACIONALES S.A. (a.k.a. CANAL S.A.), Calle 111 No. 34-139, Barranquilla, Colombia; NIT # 802005017-7 (Colombia) [SDNT]

6. CASTRO CURE Y CIA. S. EN C., Calle 111 No. 34-139, Barranquilla, Colombia; NIT # 802001885-5 (Colombia) [SDNT]

7. CENTRO DE BELLEZA SHARY VERGARA, Carrera 54 No. 72-80 Local 25, Barranquilla, Colombia [SDNT]

8. COMERCIALIZADORA MOR GAVIRIA S.A. (a.k.a. ALFOMBRAS DURATEX DE COLOMBIA; a.k.a. “DURATEX ECUADOR”), Avenida Pedro Vicente Maldonado N229 y Rivas, Edificio Centro Comercial El Recreo, Local 24F, Pichincha, Quito, Ecuador; RUC # 1791813359001 (Ecuador) [SDNT]

9. COMERCIALIZADORA MORDUR S.A., Avenida Pedro Vicente Maldonado 14-205, Edificio Centro Comercial El Recreo, Local 22F, Pichincha, Quito, Ecuador; RUC # 1791315820001 (Ecuador) [SDNT]

10. CONSTRUCTORA AMERICA S.A., Carrera 63 No. 17-07, Bogota, Colombia; NIT # 830125002-3 (Colombia) [SDNT]

11. CONSTRUCTORA IRAKA S.A., Carrera 7 No. 132-82, Bogota, Colombia; NIT # 830111113-1 (Colombia) [SDNT]

12. COOPERATIVA DE SERVICIO DE TRANSPORTE DE CARGA DE COLOMBIA LTDA. (a.k.a. COOPERATIVA DE SERVICIO DE TRANSPORTE DE CARGA MULTIMODAL DE COLOMIBA LTDA.; a.k.a. COOTRANSMULTI H.H. LTDA.), Calle 30 No. 10-50, Barranquilla, Colombia; Calle 35 No. 36-68, Barranquilla, Colombia; NIT # 802019665-0 (Colombia) [SDNT]

13. CURE SABAGH Y CIA. S.C.S., Calle 32 No. 43A-89, Barranquilla, Colombia; NIT # 802000463-6 (Colombia) [SDNT]

14. DESARROLLO GEMMA CORPORATION, Calle 52 Bella Vista, Chalet # 17, Panama City, Panama; RUC # 25544701403775 (Panama) [SDNT]

15. DURATEX S.A. (f.k.a. INVERSIONES JEDA S.A.), Carrera 63 No. 17-07, Bogota, Colombia; Calle 116 No. 19-22, Bogota, Colombia; Avenida 19 No. 95-13 Local 1, Bogota, Colombia; NIT # 800054668-3 (Colombia) [SDNT]

16. FISHING ENTERPRISE HOLDING, INC., Avenida Samuel Lewis, Edificio Comosa, Piso 16, Panama City, Panama; RUC # 2120741397076 (Panama) [SDNT]

17. FLORIDA SOCCER CLUB S.A. (a.k.a. CORPORACION DEPORTIVA FLORIDA SOCCER CLUB; a.k.a. FSC S.A.), Calle 48 No. 70-80 Ofc. 115, Medelín, Colombia; Calle 49B No. 74-31 Sector Estadio, Medelín, Colombia; Itagui, Antioquia, Colombia; NIT # 811046159 (Colombia) [SDNT]

18. FUDIA LTDA., Calle 111 No. 36B-17, Barranquilla, Colombia; NIT # 800230555-4 (Colombia) [SDNT]

19. GAVIRIA MOR Y CIA. LTDA., Calle 16 No. 11-82 Ofc. 302, Girardot, Colombia; NIT # 800212771-2 (Colombia) [SDNT]

20. GERENCIA DE PROYECTOS Y SOLUCIONES LTDA., Avenida 13 No. 100-12 Ofc. 302, Bogota, Colombia; NIT # 800231600-2 (Colombia) [SDNT]

21. GIMNASIO BODY AND HEALTH, Calle 80 No. 75-210, Barranquilla, Colombia [SDNT]

22. HOTEL LA CASCADA S.A. (f.k.a. CENTRO RECREACIONAL LA CASCADA LTDA.), Carrera 12 Avenida 25 Esquina, Girardot, Colombia; NIT # 890601336-8 (Colombia) [SDNT]

23. INMOBILIUM INVESTMENT CORP., Avenida Frederico Boyd y Calle 51, Edificio Torre Universal, Piso 3, Panama City, Panama; RUC # 4055231267286 (Panama) [SDNT]

24. INTERNACIONAL DE PROYECTOS INMOBILIARIA IPI S.A. (a.k.a. IPI S.A.), Avenida Pedro Vicente Maldonado 744, Edificio Centro Comercial El Recreo, Local 24I, Pichincha, Quito, Ecuador; RUC # 1791843436001 (Ecuador) [SDNT]

25. INVERSIONES AGROPECUARIA ARIZONA LTDA., Calle 82 No. 43-21 Ofc. 1C, Barranquilla, Colombia; NIT # 802019694 (Colombia) [SDNT]

26. INVERSIONES MPS S.A. (f.k.a. EQUIPOS MPS S.A.), Avenida 13 No. 100-12 Ofc. 302, Bogota, Colombia; NIT # 800231392-5 (Colombia) [SDNT]

27. INVERSIONES Y REPRESENTACIONES S.A. (a.k.a. IRSA S.A.), Carrera 43A No. 16A Sur—38, Barrio El Poblado, Medelín, Colombia; NIT # 811040270-5 (Colombia) [SDNT]

28. KARIAN LTDA., Calle 23 No. 68A-95, Bogota, Colombia; NIT # 800166692-1 (Colombia) [SDNT]

29. LAVADERO EL CASTILLO, Carrera 84 No. 32B-40, Medelln, Colombia [SDNT]

30. LIZZY MUNDO INTERIOR, Justo Sierra 1963, Guadalajara, Jalisco, Mexico [SDNT]

31. MARTIN HODWALKER M. & CIA. S. EN C., Via 40 No. 67-42, Barranquilla, Colombia; NIT # 802007314-9 (Colombia) [SDNT]

32. MAYOR COMERCIALIZADORA LTDA., Carrera 40 No. 169-30 Barrio Toberin, Bogota, Colombia; NIT # 80008288-4 (Colombia) [SDNT]

33. MC OVERSEAS TRADING COMPANY SA DE CV, Justo Sierra 1963, Guadalajara, Jalisco, Mexico [SDNT]

34. MOR ALFOMBRAS ALFOFIQUE S.A. (f.k.a. ALFOFIQUE LTDA.; f.k.a. ALFOFIQUE TRANSPORTES LTDA.), Carrera 40 No. 169-32, Bogota, Colombia; NIT # 830081048-0 (Colombia) [SDNT]

35. MOR GAVIRIA Y CIA. S.C.S. SOCIEDAD DE COMERCIALIZACION INT. C.I. (f.k.a. MOR GAVIRIA Y CIA. S.C.S.), Carrera 63 No. 17-07, Bogota, Colombia; NIT # 860535567-0 (Colombia) [SDNT]

36. ORIMAR LTDA., Carrera 19 No. 57-33, Bogota, Colombia; NIT # 801076804-7 (Colombia) [SDNT]

37. OVERSEAS TRADING COMPANY (a.k.a. “DURATEX GUATEMALA”; a.k.a. “DURATEX S.A.”), 7A Avenida 9-15, Zona 12 Colonia La Reformita, Guatemala City, Guatemala; Barrio del Monte 1 Avenida 2-51, Zona 1 Colonia ViCanales No. 4, Guatemala City, Guatemala; 20 Calle 20-81 Zona 10, Guatemala City, Guatemala; NIT # 2500971-0 (Guatemala) [SDNT]

38. PROMOCIONES E INVERSIONES LAS PALMAS S.A. (a.k.a. PROPALMAS S.A.), Carrera 9 No. 100-97 Ofc. 412, Bogota, Colombia; NIT # 800236023-5 (Colombia) [SDNT]

39. PROYECTOS Y SOLUCIONES INMOBILIARIA LTDA. (f.k.a. PROMOTORA DE PROYECTOS Y SOLUCIONES LTDA.), Avenida 13 No. 100-12 Ofc. 302, Bogota, Colombia; NIT # 800014349-8 (Colombia) [SDNT]

40. PROYECTOS Y SOLUCIONES S.A., Carrera 63 No. 17-07, Bogota, Colombia; NIT # 800231601-1 (Colombia) [SDNT]

41. ROCK FISH IMPORT EXPORT E.U., Avenida Juan XXIII, San Andres, Colombia; NIT # 827000913-1 (Colombia) [SDNT]

42. SUPER BOYS GAMES LTDA., Carrera 40 No. 168-67, Bogota, Colombia; NIT # 830004047-5 (Colombia) [SDNT]

43. TRANSPORTES MICHAEL LTDA. (a.k.a. TRANSMIKE LTDA.), Calle 30 No. 10-50, Barranquilla, Colombia; Sitio Nuevo, Magdalena, Colombia; NIT # 802024118-3 (Colombia) [SDNT]

44. VERANILLO DIVE CENTER LTDA. (a.k.a. CLUB DE PESCA VERANILLO), Via 40 No. 67-42, Barranquilla, Colombia; NIT # 802008393-5 (Colombia) [SDNT]

45. YAMAHA VERANILLO DISTRIBUIDORES, Via 40 No. 67-42, Barranquilla, Colombia [SDNT]

Dated: March 28, 2007.
Adam J. Szubin,
Director, Office of Foreign Assets Control.

[FR Doc. E7-6079 Filed 3-30-07; 8:45 am]

BILLING CODE 4811-42-P